DEPARTMENT OF COMMERCE

National Oceanic and Atmospheric Administration

Intent To Prepare a Draft Environmental Impact Statement and Draft Management Plan for the Proposed Connecticut National Estuarine Research Reserve

AGENCY: Office for Coastal Management (OCM), National Ocean Service (NOS), National Oceanic and Atmospheric Administration (NOAA), U.S. Department of Commerce.

ACTION: Notice of intent.

SUMMARY: NOAA and the State of Connecticut (State) intend to prepare a Draft Environmental Impact Statement (DEIS) and Draft Management Plan (DMP) for the proposed Connecticut National Estuarine Research Reserve (NERR). The DEIS will consider the human and environmental consequences of federally designating the State's proposed site and alternatives, and identify a final boundary. The DMP will provide a framework for operating the proposed site if approved by NOAA and will include plans for administration, research, education, and facilities.

FOR FURTHER INFORMATION CONTACT: Erica Seiden, Office for Coastal Management, National Ocean Service, NOAA, 1305 East West Highway, N/OCM, Silver Spring, MD 20910, Phone: 240-533-0781 or Email: erica.seiden@noaa.gov.

SUPPLEMENTARY INFORMATION: In accordance with Section 315 of the Coastal Zone Management Act of 1972, as amended, and its implementing regulations (15 CFR part 921), and the National Environmental Policy Act of 1969, as amended, NOAA and the State intend to prepare a DEIS and DMP for the proposed Connecticut NERR.

NOAA received the State's nomination of the proposed site on January 3, 2019. NOAA evaluated the nomination package and found that the proposed site met the NERR System requirements. (See 16 U.S.C. 1461(b).) NOAA informed the State on September 27, 2019, that it was accepting the nomination and that the next step would be to prepare a DEIS and DMP. The DEIS will consider the human and environmental consequences of designating the State's recommended site and alternatives, as well as identify a final boundary. The DMP will set a course for operating the reserve once approved and will include plans for administration, research, education, and facilities of the proposed site. (See 15 CFR 921.13.)

The proposed site consists of the following State-owned properties: Lord Cove Wildlife Management Area; Great Island Wildlife Management Area; Bluff Point State Park and Coastal Reserve and Natural Area Preserve; Haley Farm State Park; and public trust waters including portions of Long Island Sound, the lower Thames River, and the lower Connecticut River.

The proposed site resulted from a comprehensive evaluation process that sought the views of the public, affected landowners, and other interested parties. The State held an informal, widely-publicized kick-off meeting on April 12, 2016, to describe the NERR System, explain the rationale for establishing a reserve in Connecticut, and identify a process for selecting and nominating a site to NOAA. Following the kick-off meeting, the State assembled a Site Selection Team composed of State agency representatives, academia, non-governmental organizations, members of the public, and federal agencies. The team conducted preliminary screening, detailed screening, and scoring of potential sites that led to the preferred site. The State and NOAA held a public meeting on November 13, 2018, to solicit comments on the preferred site. (See 83 FR 54572.)

A separate Federal Register notice will be published to announce a public scoping meeting to solicit comments on issues related to the proposed action. (See 15 CFR 921.13(c).) Options for the type, location, and date of a public scoping meeting are being evaluated.

Federal Domestic Assistance Catalog Number 11.420

(Coastal Zone Management) Research Reserves

Jeffrey L. Payne,
Director, Office for Coastal Management, National Ocean Service, National Oceanic and Atmospheric Administration.

[FR Doc. 2020-11680 Filed 5-29-20; 8:45 am]

BILLING CODE 3510-JE-P